DEPARTMENT OF AGRICULTURE

Forest Service

Southwest Washington Province Advisory Committee Meeting Notice

AGENCY: Forest Service, USDA.

ACTION: Notice of Meeting.

SUMMARY: The Southwest Washington Province Advisory Committee will meet on Thursday, November 9, 2006, at the Gifford Pinchot National Forest Headquarters, 10600 NE. 51st Circle, Vancouver, WA 98682. The meeting will begin at 9:30 a.m. and continue until 4 p.m.

The purpose of the meeting is to share information and receive feedback on: Gifford Pinchot National Forest's Recreation Site Facilities Master Plan effort; Invasive Plant environmental impact statement; Special Forest Products; and to share information among Committee members.

All Southwest Washington Province Advisory Committee meetings are open to the public. Interested citizens are encouraged to attend. The “open forum” provides an opportunity for the public to bring issues, concerns, and discussion topics to the Advisory Committee. The “open forum” is scheduled for 1:30 p.m. Interested speakers will need to register prior to the open forum period. The committee welcomes the public's written comments on Committee business at any time.

FOR FURTHER INFORMATION CONTACT: Chris Strebig, Public Affairs Officer, at (360) 891-5005, or write Forest Headquarters Office: Gifford Pinchot National Forest, 10600 NE. 51st Circle, Vancouver, WA 98682.

Dated: October 5, 2006.
Claire Lavendel,
Forest Supervisor.

[FR Doc. 06-8659 Filed 10-12-06; 8:45 am]

BILLING CODE 3410-11-M